AGENCY FOR INTERNATIONAL DEVELOPMENT

Notice of Meeting

Pursuant to the Federal Advisory Committee Act, notice is hereby given of a meeting of the Advisory Committee on Voluntary Foreign Aid (ACVFA).

Date: Thursday, October 2, 2008 (9 a.m. to 3 p.m., times may be adjusted).

Location: National Press Club Ballroom, 529 14th Street, NW., Washington, DC 20045.

Please note that this is the anticipated agenda and is subject to change.

Keynote: Henrietta H. Fore, USAID Administrator and Director of United States Foreign Assistance, will speak on key issues before USAID and the foreign assistance community including the High Level Forum in Accra on Aid Effectiveness and the United Nations General Assemby. She will also address the draft recommendations of the ACVFA Subcommittee on Public Outreach.

American Awareness of U.S. Foreign Assistance: The ACVFA's Subcommittee on Public Outreach will provide its draft recommendations to the full Committee and the general public. A respondent will provide feedback to the draft.

The meeting is free and open to the public. Persons wishing to attend the meeting can register online at http://www.usaid.gov/about_usaid/acvfa or with Jocelyn Rowe at jrowe@usaid.gov or 202-712-4002.

Dated: September 8, 2008.
Jocelyn M. Rowe,
Executive Director, Advisory Committee on Voluntary Foreign Aid (ACVFA), U.S. Agency for International Development.

[FR Doc. E8-21273 Filed 9-11-08; 8:45 am]

BILLING CODE 6116-01-P